DEPARTMENT OF COMMERCE

National Institute of Standards and Technology

Agency Information Collection Activities; Submission to the Office of Management and Budget (OMB) for Review and Approval; Comment Request; Davis-Bacon and Related Act Compliance Information Collection Request (ICR)

AGENCY: National Institute of Standards and Technology (NIST), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before June 10, 2024.

ADDRESSES: Interested persons are invited to submit written comments by mail to Liz Reinhart, Management Analyst, National Institute of Standards and Technology, PRAcomments@doc.gov). Do not submit Confidential Business Information or otherwise sensitive or protected information.

FOR FURTHER INFORMATION CONTACT: Requests for additional information or specific questions related to collection activities should be directed to Cierra Bean, Business Operations Specialist, CHIPS Program Office, askchips@chips.gov, (202) 815-2677.

SUPPLEMENTARY INFORMATION:

I. Abstract

The CHIPS Incentives Program is authorized by Title XCIX—Creating Helpful Incentives to Produce Semiconductors for America of the William M. (Mac) Thornberry National Defense Authorization Act for Fiscal Year 2021 (Pub. L. 116-283, referred to as the CHIPS Act or Act), as amended by the CHIPS Act of 2022 (Division A of Pub. L. 117-167). The CHIPS Incentives Program is administered by the CHIPS Program Office (CPO) within the National Institute of Standards and Technology (NIST) of the United States Department of Commerce (Department).

All Federal agencies administering programs subject to Davis-Bacon wage provisions are required by CFR part 5, section 5.7 (b) to submit a report of all new covered contracts/projects and all compliance and enforcement activities every six months to the Department of Labor (DOL). In order for CPO to comply with this reporting requirement, it must collect contract and enforcement information from CHIPS and Science Act Incentives Program awardees, the Department's direct contractors, and other prime contractors that administer the Department's programs subject to Davis-Bacon requirements. The Department will require that such entities complete and submit a Semi-Annual Enforcement Report every six months, by the 21st of April and the 21st of October each year.

II. Method of Collection

Submit semi-annual report to the Department 20 days after the end of semi-annual reporting period by April 20th and October 20th for applicable performance period. The CHIPS Semi-Annual Enforcement Report is due to DOL by April 30 and October 31 of each year. The April 30 report is for the reporting period from October 1 through March 31 of each year, and the October 31 report is for the reporting period from April 1 through September 30 of each year. The Department asks for the information by the 20th of the month in which it is due (i.e., April 20th and October 20th), so that all reports can be combined, and a final report compiled for submission to DOL. The Department's form number is OMB 0693-XXXX.

III. Data

OMB Control Number: 0693-XXXX.

Form Number(s): None.

Type of Review: Regular submission.

Affected Public: Business or other for-profit organizations.

Estimated Number of Respondents: 100 respondents annually.

Estimated Time per Response: 2 hours per response.

Estimated Total Annual Burden Hours: 200 hours.

Estimated Total Annual Cost to Public: $18,928.

Respondent's Obligation: Mandatory.

Legal Authority: Statutory Authority: 29 CFR 5.7(b).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-07656 Filed 4-10-24; 8:45 am]

BILLING CODE 3510-13-P